LIBRARY OF CONGRESS

Copyright Office

37 CFR Part 202

[Docket No. 2007-9]

Registration of Claims to Copyright, Group Registration Options

AGENCY: Copyright Office, Library of Congress.

ACTION: Notice of Proposed Rulemaking.

SUMMARY: The Copyright Office of the Library of Congress is proposing to amend its regulations governing the registration options which allow grouping of individual works to be registered using one application to require online submission for these options.

DATES: Comments must be received on or before May 30, 2008.

ADDRESSES: If hand delivered by a private party, an original and five copies of the comments should be brought to Room 401 of the James Madison Building between 8:30 a.m. and 5 p.m. The material should be addressed as follows: Office of the General Counsel, Library of Congress, James Madison Building, LM-401, Washington, DC, 20559-6000.

If delivered by a commercial courier, an original and five copies must be delivered to the Congressional Courier Acceptance Site (“CCAS”) located at 2nd and D Streets, NE, Washington, DC between 8:30 a.m. and 4 p.m. The envelope should be addressed as follows: Office of the General Counsel, U.S. Copyright Office, LM 401, James Madison Building, 101 Independence Avenue, SE, Washington, DC. Please note that CCAS will not accept delivery by means of overnight delivery services such as Federal Express, United Parcel Service or DHL.

If sent by mail (including overnight delivery using U.S. Postal Service Express Mail), an original and five copies should be addressed to U.S. Copyright Office, Copyright GC/I&R, P.O. Box 70400, Washington, DC 20024.

FOR FURTHER INFORMATION CONTACT: Tanya M. Sandros, General Counsel, Copyright GC/I&R, P.O. Box 70400, Washington, DC 20024-0977. Telephone: (202) 707-8380. Telefax: (202) 252-3423.

SUPPLEMENTARY INFORMATION:

Background

When Congress enacted its major revision to the copyright law in 1976, it provided for a single registration for a group of related works, 17 U.S.C. 408(c)(1) and explained in the legislative history the need for liberalization in allowing the Register to set registration options in which a group of related works might be registered together. House Report, H.R. Rep. No. 1476, 94th Cong., 2d Sess. (1976). Congress pointed out the “unnecessary burdens and expenses” connected with requiring separate registrations [including multiple sets of application forms and multiple fees] for separate works. Congress even gave examples where a single registration might be made rather than multiple registrations, including the various editions or issues of a daily newspaper or a group of photographs by one photographer. Id. at 154.

To accommodate this need, the Register has issued regulations offering a group registration option in which published, related individual works of authorship may be aggregated and submitted for registration for one fee, using one application form, and sending one group of required deposit copies. The group registration option may be used to register a group of serial issues first published on or after January 7, 1991, at intervals of a week or longer within a 3-month period during the same calendar year; a group of newspapers published within the same month; a group of newsletter issues first published on or after July 1, 1999, with the claim including two or more issues within a single calendar month within the same calendar year; a group of contributions to a periodical, including a newspaper, by the same individual author; a group of published photographs by the same photographer, whether the author is an individual or an employer for hire, first published in the same calendar year; and a group of updates or revisions to a database, added over a period of time, whether or not they are published.

On-line Group Registration

As the Copyright Office prepares for full implementation of its reengineered processes, it initiated a limited beta test for the electronic aspect of registration, i.e., for e-service. Applicants using the electronic registration option electronically submit applications, filing fees, and digitally formatted deposit copies. Registration applicants who participate in the beta test operate under the Office’s interim regulations for electronic submission. 72 FR 36883 (July 6, 2007). These interim regulations are applicable only to those who electronically file their applications. All other applicants continue to submit claims under the Office’s current procedures.

The immediate goal of the Office is to expand its online registration system to accommodate applications for group registrations. Online registration will increase the Office’s efficiency in examining these larger group registration claims and allow the Office to decrease the time it takes to process an application. Moreover, electronic filing should be easier for the category of claimants (commercial magazines (i.e., serials) and newspapers, issuers of newsletters, photographers accustomed to dealing with digital equipment, owners of online databases, and frequent contributors to commercial newspapers and periodicals) who usually take advantage of the group options. Certainly, initial interest in online registration from remitters of group registrations for serials and newspapers has been very positive and they have expressed a preference for submitting their applications for group registrations in this manner.

Thus, in keeping with the Office’s plan to move toward increased online registrations, this Notice proposes to amend further the current regulations governing group registration to require any applicant wishing to take advantage of group registration options to file the group claim electronically within the reengineered registration system, and it seeks comment on the Office’s proposal, to be implemented after the beta testing has been completed. Group registration would then be available only via online submission for the following (currently permitted) groups of works: published serials, published daily newspapers, published newsletters, updates to databases, groups of published photographs, and groups of contributions to periodicals.

Proposed deposit requirements. The current requirements governing the registration of these groups will remain in place, including the current deposit material requirements for each type of work. See 37 CFR 202.3(b)(5) - (10) and 202.20(c). The current deposit requirements for owners of databases, owners of published photographs, owners of published newsletters and newspapers, magazines (i.e., serials) owners of the rights in a group of contributions to a periodical are, of course, print copies and many of these works are wanted by the Library of Congress for its permanent collections. However, under the new electronic registration system, applicants in these categories will be electronically submitting applications and fees and either an electronic version of the deposit or digitally-formatted identifying deposit materials for the sake of examination. Amendments have been proposed to sections 202.3(b) and 202.20(c) which specify the type of deposit for each type of work that will be required for examination purposes. In addition, these applicants will also be obliged to submit appropriate hard copy/tangible deposit materials in separate mailings, to be directed to the Library of Congress for its collections in the case where the Library has indicated a particular title it wants for its permanent collection.

Form GR. The Office expects the filing of group registrations to be facilitated by its electronic system and by the new online group application form (Form GR) which is flexibly constructed. The form requires each applicant to provide general information, common to all groups, and additional information about the group of works being registered. The application has been developed so that it indicates clearly the particular group of works for which specific information must be given.

There is one change, however, with the new Form GR. A particular piece of usual registration information - a description of new matter within a work - is no longer explicitly required on the group registration form because many of the group options require that the works included within the grouping be “essentially new” with respect to their authorship. For example, most of the photographs in a group of published photographs will be new as they appear[ed] as first published, as will contributions to periodicals.

However, because there is a possibility that some authorship may be derivative or a revision of one or more of the individual works included within these group registration options, the form includes check boxes within the electronic form for author’s contribution[s] concerning the individual works, or components, including ‘editing’ and ‘compilation.’ These terms may, for example, denote revised database authorship in individual elements incorporated into a database or they may indicate authorship in the overall compiling and editing which may have been changed, altered or revised. The form also includes an “other” field associated with the authorship description for those situations where none of the choices apply.

Fees. The Office has also considered the fee structure for group registrations. The current fees are now set at a lower cost than the applicant would normally be paying if all individual works within a group were separately submitted, reflecting the reduction in price that the Office thinks should accompany the group options. Thus, the fees governing group registration options will remain at their current levels. See 37 CFR 201.3.

List of Subjects in 37 CFR Part 202

Claims, Copyright, Registration requirements.

Proposed Regulations

In consideration of the foregoing, the Copyright Office proposes to amend Subchapter A, part 202 of 37 CFR, in the manner set forth below.

PART 202—REGISTRATION OF CLAIMS TO COPYRIGHT

1. The authority citation for part 202 continues to read as follows:

Authority: 17 U.S.C. 702.

2. Section 202.3 is amended as follows:

a. By revising paragraph (b)(5)(ii)(A);

b. By revising paragraph (b)(6)(v);

c. By revising paragraph (b)(7)(i)(B);

d. By removing paragraph (b)(8)(i)(E), revising paragraphs (b)(8)(ii)(A) and (B), and amending paragraph (b)(8)(ii)(C) by removing the phrase “paragraph (b)(8)(i)(E)” and add in its place “paragraph (b)(8)(ii)(B)”;

e. By revising paragraphs (b)(9)(vi)(A) and (viii);

f. By revising paragraph (b)(10) introductory text; and

g. By revising paragraph (b)(10)(viii).

The revisions to § 202.3 read as follows:

§ 202.3 Registration of copyright.

(b)* * *

(5) * * *

(ii) * * *

(A) A Form GR (Group Application), completed in accordance with instructions relevant to the authorship and ownership of updates and revisions to an automated database, as those instructions are found at the Copyright Office website, must be completed electronically within the Copyright Office registration system, including online payment of the filing fee. The required deposit material described in paragraphs (b)(5) (ii)(C) of this section may be submitted electronically in an acceptable digital-file format.

(6)* * *

(v) A Form GR (Group Application), completed in accordance with instructions relevant to the authorship and ownership of all individual issues of a particular serial title, published within the required three-month period, as those instructions are found at the Copyright Office website, must be completed electronically within the Copyright Office registration system, including online payment of the appropriate filing fee, as required in § 201.3(c), and a deposit consisting of one complete copy of the best edition of each issue for use by the Library of Congress in cases where the Library has indicated selection of the title. In addition, a digital copy of each entire issue included in the group must be submitted for purposes of examination and completion of registration.

(7)* * *

(i)* * *

(B) A Form GR (Group Application), completed in accordance with instructions relevant to the authorship and ownership of issues published within the required one-month period of a particular newspaper title, as those instructions are found at the Copyright Office website, must be completed electronically within the Copyright Office registration system, including online payment of the filing fee as required in § 201.3(c). In addition to the deposit materials required under paragraph (b)(7)(i)(D) of this section for use by the Library of Congress in cases where the Library has indicated selection of the title, a digital copy of each entire issue included in the group must be submitted electronically in an acceptable format for purposes of examination and completion of registration.

(8)* * *

(ii)* * *

(A) A Form GR (Group Application), which is the appropriate form for the registration of a group of contributions, no matter the nature of the authorship of the contributions;

(B) A completed Form Group Continuation Sheet (CON GR), which must accompany the Form GR application. All applicable information for each contribution included in the registration must be provided on the CON GR. Both Form GR and the CON GR, completed in accordance with instructions relevant to the authorship and ownership in the particular contributions included in the registration, as those instructions are found at the Copyright Office website, must be completed electronically within the Copyright Office registration system, including online payment of the filing fee. The required deposit material consists of a complete digital copy of each contribution within the group submitted electronically in a digital-file format. No identifying material, i.e., no redaction of the content of the contribution, may be submitted for purposes of examination and completion of registration; and

(9) * * *

(vi) Deposit. (A). The deposit for newsletters registered under this section is a digital copy of each entire issue included in the group submitted electronically for purposes of examination and completion of registration.

(viii) A Form GR (Group Application), completed in accordance with instructions relevant to the authorship and ownership of issues published within the required same calendar month of a particular newsletter title, as those instructions are found at the Copyright Office website, must be completed electronically within the Copyright Office registration system, including online payment of the filing fee. In addition to the print deposit materials required pursuant to paragraph (b)(9)(vi)(B) of this section for use by the Library of Congress in cases where the Library has indicated selection of the title, a digital copy of each entire issue included in the group must be electronically submitted for purposes of examination and completion of registration.

(10) Group registration of published photographs. Pursuant to the authority granted by 17 U.S.C. 408(c)(1), the Register of Copyrights will accept a Form GR (Group Application), which must be electronically filed, and which must be accompanied by a Group Continuation Sheet (CON GR), appropriate deposit, and online payment of the filing fee for registration if the following conditions are met:

(viii) The applicant must electronically complete the Form GR (Group Application) application, which must be accompanied by a Group Continuation Sheet (CON GR). This application must be completed in accordance with instructions relevant to the authorship and ownership of the photographs published within the same calendar year, as those instructions are found at the Copyright Office website, and must be completed electronically within the Copyright Office registration system. In lieu of the deposit material required pursuant to paragraph (b)(10)(ix) of this section, all photographs included within the group must be electronically submitted in digital-file format for purposes of examination and completion of registration. Where, however, the Library of Congress requests a particular photograph or photographs for its collections, the required print deposit materials must be submitted.

3. Section 202.20(c) is amended as follows:

a. By amending paragraph (c)(2)(vii)(D)(5) to add the phrase “submit electronically in an acceptable file format” after “the claimant shall”;

b. By revising paragraph (c)(2)(xv);

d. By revising paragraph (c)(2)(xvii);

e. By redesignating paragraphs (c)(2)(xviii) through (xx) as (c)(2)(xx) through (xxii), respectively;

f. By adding new paragraphs (c)(2)(xviii) and (xix); and

g. By revising redesignated paragraph (c)(2)(xxii).

The revisions to § 202.20 read as follows:

§ 202.20 Deposit of copies and phonorecords for copyright registration.

* * * * *

(c)* * *

(2) * * *

(xv) Contributions to collective works. In the case of published contributions to collective works, the deposit must consist of a digital copy of each entire contribution included within the group as it was published in the collective work and one complete copy of the best edition of the entire collective work in the case where the Library of Congress has indicated selection of a collective work.

(xvii) Group registration of serials. For group registration of related serials, as specified in § 202.3(b)(6), the deposit must consist of one complete copy of each issue included in the group registration which shall be submitted electronically in an acceptable file format. In addition, two complimentary subscriptions to any serial for which group registration is sought must be entered and maintained in the name of the Library of Congress, and the copies must be submitted regularly and promptly after publication.

(xviii) Group registration of daily newspapers. For group registration of daily newspapers, as specified in § 202.3(b)(7)(i)(B), the deposit consists of a digital copy of each entire issue included in the group which shall be submitted electronically in an acceptable file format, and the print deposit materials required under § 202.3(b)(7)(i)(D) for use by the Library of Congress in cases where the Library has indicated selection of the title.

(xix) Group registration of daily newsletters. For group registration of daily newsletters, as specified in § 202.3(b)(9), the deposit must consist of a digital copy of each issue included in the group registration which shall be submitted electronically in an acceptable file format and the print deposit materials required pursuant to § 202.3(b)(9)(vi)(B) for use by the Library of Congress in cases where the Library has indicated selection of the title.

* * * * *

(xxii) Photographs: group registration. For groups of photographs registered with one application under § 202.3(b)(3)(i)(B) (unpublished collections) or § 202.3(b)(10) (group registration of published photographs), all photographs, in their entire content, included within the group must be electronically submitted in a digital file format. In addition, when the Library of Congress requests a particular photograph or photographs for its collection, photographs must be deposited in one of the following formats (listed in the Library’s order of preference):

* * * * *

Dated: April 24, 2008.
Marybeth Peters,
Register of Copyrights.

[FR Doc. E8-9487 Filed 4-29-08; 8:45 am]

BILLING CODE 1410-30-S